DEPARTMENT OF LABOR

Employment and Training Administration

[TA-W-37,587]

Milco Industries, New York, NY; Notice of Termination of Investigation

Pursuant to section 221 of the Trade Act of 1974, an investigation was initiated on April 17, 2000, in response to a worker petition which was dated March 30, 2000 on behalf of workers at Milco Industries, New York, New York.

All workers were separated from the subject firm more than one year prior to the date of the petition. Section 223 of the Act specifies that no certification may apply to any worker whose last separation occurred more than one year before the date of the petition. Consequently, further investigation in this case would serve no purpose, and the investigation has been terminated.

Signed in Washington, DC this 9th day of May, 2000.
Grant D. Beale,
Program Manager, Division of Trade Adjustment Assistance.

[FR Doc. 00-13473 Filed 5-30-00; 8:45 am]

BILLING CODE 4510-30-M